DEPARTMENT OF AGRICULTURE

Food and Nutrition Service

Child Nutrition Programs; Income Eligibility Guidelines

Correction

In notice document 2013-6544 appearing on pages 17628-17631 in the issue of Friday, March 22, 2013, make the following correction:

On page 17630, the table should appear as follows:

[FR Doc. C1-2013-06544 Filed 3-28-13; 8:45 am]

BILLING CODE 1505-01-D